DEPARTMENT OF THE INTERIOR

Fish and Wildlife Service

[FWS-R3-ES-2010-N094; 30120-1113-000-F6]

Endangered and Threatened Wildlife and Plants; Indiana Bat; Notice of Intent To Prepare a Draft Environmental Impact Statement for a Proposed Habitat Conservation Plan and Incidental Take Permit

AGENCY: Fish and Wildlife Service, Interior.

ACTION: Notice of intent to prepare a draft environmental impact statement and draft habitat conservation plan; request for comments.

SUMMARY: We, the U.S. Fish and Wildlife Service (Service) intend to prepare a draft environmental impact statement (EIS) to evaluate the impacts of several alternatives relating to the proposed issuance of an Endangered Species Act Permit to EverPower Wind Holdings, Inc., its subsidiary Buckeye Wind LLC, and its affiliates (applicant) for incidental take of the Indiana bat (Myotis sodalis), a Federal endangered species, from activities associated with the construction and operation of a wind power project in Champaign County, Ohio. We also announce a public comment period.

DATES: To ensure consideration, please send your written comments by June 25, 2010.

ADDRESSES: You may submit comments by one of the following methods:

U.S. mail or hand-delivery: Ms. Megan Seymour, U.S. Fish and Wildlife Service, Ohio Field Office, 4625 Morse Rd., Suite 104, Columbus, OH 43230;

E-mail comments: EverPowerHCP@fws.gov; or

Fax: (614) 416-8994 (Attention: Megan Seymour).

FOR FURTHER INFORMATION CONTACT: Ms. Megan Seymour, at (614) 416-8993, extension 16. Individuals who are hearing-impaired or speech-impaired may call the Federal Relay Service at (800) 877-8337 for TTY assistance.

SUPPLEMENTARY INFORMATION: We publish this notice in compliance with the National Environmental Policy Act (NEPA) of 1969, as amended (42 U.S.C. 4321 et seq.), and its implementing regulations (40 CFR 1506.6), and section 10(c) of the Endangered Species Act of 1973, as amended (Act; 16 U.S.C. 1531 et seq.). We intend to gather the information necessary to determine impacts and alternatives to support a decision regarding the potential issuance of an incidental take permit to the applicant, and the implementation of the supporting draft HCP. We intend to prepare an EIS to evaluate the impacts of several alternatives relating to the proposed issuance of an incidental take permit under the Act. The applicant proposes to apply for an incidental take permit through development and implementation of an HCP. The proposed HCP will cover take of the Indiana bat that is incidental to activities associated with the construction and operation of the applicant's Buckeye Wind Energy project and will include measures necessary to minimize and mitigate impacts to the Indiana bat and its habitat to the maximum extent practicable.

Public Comments

We request data, comments, new information, or suggestions from the public, other concerned governmental agencies, the scientific community, Tribes, industry, or any other interested party on this notice. These comments will be considered by the Service in developing a draft EIS and in the development of an HCP and ITP. We particularly seek comments concerning:

(1) Biological information concerning the Indiana bat;

(2) Relevant data concerning wind power and bat interactions;

(3) Additional information concerning the range, distribution, population size, and population trends of the Indiana bat;

(4) Current or planned activities in the subject area and their possible impacts on the Indiana bat;

(5) The presence of archeological sites, buildings and structures, historic events, sacred and traditional areas, and other historic preservation concerns, which are required to be considered in project planning by the National Historic Preservation Act; and

(6) Identification of any other environmental issues that should be considered with regard to the proposed development and permit action.

You may submit your comments and materials considering this notice by one of the methods listed in the ADDRESSES section. If you previously submitted comments on this project during the public comment period associated with Federal Register notice 75 FR 4840 (published January 29, 2010), you need not resubmit your comments. All previously received comments on this project will be considered in development of the draft EIS.

Comments and materials we receive, as well as supporting documentation we use in preparing the NEPA document, will be available for public inspection by appointment, during normal business hours, at the U.S. Fish and Wildlife Service, Ohio Field Office (see FOR FURTHER INFORMATION CONTACT section). You may obtain copies of this notice on the Internet at: http://www.fws.gov/midwest/Endangered/permits/hcp/r3hcps.html, or by mail from the Ohio Field Office (see FOR FURTHER INFORMATION CONTACT section).

Background

Section 9 of the Act prohibits “taking” of fish and wildlife species listed as endangered under section 4 of the Act. The Act's implementing regulations extend, under certain circumstances, the prohibition of take to threatened species. Under section 3 of the Act, the term “take” means “to harass, harm, pursue, hunt, shoot, wound, kill, trap, capture, or collect, or to attempt to engage in any such conduct.” The term “harm” is defined by regulation as “an act which actually kills or injures wildlife. Such act may include significant habitat modification or degradation where it actually kills or injures wildlife by significantly impairing essential behavioral patterns, including breeding, feeding, or sheltering” (50 CFR 17.3). The term “harass” is defined in the regulations as “an intentional or negligent act or omission which creates the likelihood of injury to wildlife by annoying it to such an extent as to significantly disrupt normal behavioral patterns which include, but are not limited to, breeding, feeding, or sheltering” (50 CFR 17.3). Section 10(a)(1)(B) of the Act requires an applicant for an incidental take permit to prepare an HCP that describes: (1) The impact that will result from such taking; (2) the steps the applicant will take to minimize and mitigate that take to the maximum extent practicable, and the funding that will be available to implement such steps; (3) the alternative actions to such taking that the applicant considered and the reasons why such alternatives are not being utilized; and (4) the other measures that the Service may require as being necessary or appropriate for the purposes of the plan. The Act requires the Service to issue an incidental take permit to an applicant when we determine that: (1) The taking will be incidental to otherwise lawful activities; (2) the applicant will, to the maximum extent practicable, minimize and mitigate the impacts of such taking; (3) the applicant has ensured that adequate funding for the plan will be provided; (4) the taking will not appreciably reduce the likelihood of the survival and recovery of the species in the wild; and (5) the measures, if any, we require as necessary or appropriate for the purposes of the plan will be met. Regulations governing permits for endangered and threatened species are at 50 CFR 17.22 and 17.32.

The Indiana bat was added to the list of Endangered and Threatened Wildlife and Plants on March 11, 1967 (32 FR 4001). It is currently listed as an endangered species under the Act. The population decline of this species is attributed to habitat loss and degradation of both winter hibernation habitat and summer roosting habitat, human disturbance during hibernation, and possibly pesticides. An additional and emerging threat to Indiana bats is White-Nose Syndrome, a recently discovered fungus (Geomyces destructans) that invades the skin of bats, causing ulcers which may alter hibernation arousal patterns, and which can cause emaciation. The range of the Indiana bat includes much of the eastern United States, and Ohio is located within the core maternity range of the bat. Winter habitat for the Indiana bat includes caves and mines that support high humidity and cool but stable temperatures. In the summer, Indiana bats roost under the loose bark of dead or dying trees. During summer males roost alone or in small groups, while females and their offspring roost in larger groups of up to 100 or more. Indiana bats forage for insects in and along the edges of forested areas and wooded stream corridors. Maternity colonies of Indiana bats have recently been detected in Champaign County, Ohio, though no Indiana bat hibernacula have been documented in this county.

Proposed Action

The proposed action is issuance of an incidental take permit for the Indiana bat during construction and operation of the applicant's Buckeye Wind Energy project. The proposed HCP, which must meet the requirements in section 10(a)(2)(A) of the Act, would be developed and implemented by the applicant.

The applicant is planning the development of a wind power project in Champaign County, Ohio. The project would be spread across 80,370 acres within portions of Union, Wayne, Urbana, Salem, Rush, and Goshen Townships. Development of the wind power project would include installation of up to 100 wind turbines and associated collection lines, access roads, utility lines, substations, operation and maintenance facility buildings, and temporary staging areas and concrete batch plants. The wind turbine hub height will be approximately 100 meters (m), and the rotor diameter will be approximately 100 m, for an approximate total height of 150 m at the rotor apex. Installation of each individual turbine will temporarily impact an area of approximately 2.9 acres, while the final footprint of each turbine will be approximately 0.2 acres. Access roads to the turbines will have a temporary width of up to 55 feet during construction, and a permanent width of 16-20 feet. Despite the relatively small acreage of land to be affected by the project, impacts to wildlife, particularly birds and bats, are anticipated.

The project is located in a rural setting, with the landscape primarily composed of agricultural properties. Woodlots are scattered throughout the project area. Several small towns (Mutual and Cable) occur within the project area, and individual homes and low-density residential areas are also scattered throughout.

The applicant, in conjunction with the Service, has determined that take of Indiana bats is likely to occur from development of the proposed wind power project. To authorize take, the applicant plans to develop an HCP and request issuance of an ITP from the Service.

Alternatives

Three action alternatives relating to the proposed issuance of an ITP to the applicant for activities associated with the construction and operation of the wind power project will be considered in the draft EIS, along with the potential impacts associated with each alternative. Each action alternative analyzed in the draft EIS will be compared to the No-Action alternative. The No-Action alternative represents estimated future conditions to which the proposed action can be compared.

No-Action Alternative

Under the No Action Alternative, an Incidental Take Permit (ITP) pursuant to Section 10 (a)(1)(B) of the Act would not be issued for development of the Buckeye Wind Project. The proposed Buckeye Wind Project and HCP would not occur without issuance of an ITP. According to the applicant, the Action Area would be reconsidered and the existing land uses would be maintained at the sites of proposed turbines and other Facility appurtenances until and unless an ITP could be secured. The proposed project purpose and need would not be met under the No Action Alternative.

Maximally Restricted Operations Alternative

Under the Maximally Restricted Operations Alternative, the Facility would be constructed as described under Proposed Action—i.e., full build-out of up to 100 turbines. Minimization for potential impacts to Indiana bats would include shutting down turbines at night during the period from April 1 through October 31, the active period for Indiana bats, every year the Buckeye Wind Project is in operation.

Modified Operations Alternative

Under the Modified Operations Alternative, the Facility would be constructed as described under Proposed Action, i.e. full build-out of up to 100 turbines. Minimization for potential impacts to Indiana bats would include curtailment of turbines based on the habitat suitability for Indiana bats at each proposed turbine location. Habitat suitability will be determined based on habitat conditions at 43 roost locations and 1,124 foraging locations derived from radio telemetry data from 21 Indiana bats that were captured during mist-netting activity in 2008 and 2009 in Champaign, Logan, and Hardin Counties.

Non-Restricted Operations Alternative

Under the Non-Restricted Operations Alternative, the Facility would be constructed as described under Proposed Action—i.e., full build-out of up to 100 turbines. No operational minimization for potential impacts to Indiana bats would occur.

Any preferred alternative developed by the Service is likely to contain various measures to avoid and minimize impacts to Indiana bats, including the impact of lethal take. Various methods that may be considered include, but are not limited to: Protection of roost trees and surrounding habitat, set-back distances from known roost trees, mapping and avoidance of foraging areas, protection and enhancement of Indiana bat habitat outside the project area, various curtailment regimes for turbines during prime activity or migration periods, and post-construction monitoring for fatalities.

Environmental Review

The Service will conduct an environmental review to analyze various alternatives for implementing the proposed action and the associated impacts of each. The draft EIS will be the basis for the impact evaluation for Indiana bats and the range of alternatives to be addressed. The draft EIS is expected to provide biological descriptions of the affected species and habitats, as well as the effects of the alternatives on other resources such as vegetation, wetlands, wildlife, geology and soils, air quality, water resources, water quality, cultural resources, land use, recreation, water use, local economy, and environmental justice. Following completion of the environmental review, the Service will publish a notice of availability and a request for comments on the draft EIS and the applicant's permit application, which will include the draft HCP. The draft EIS and draft HCP are expected to be completed and available to the public in mid-2010.

Authority

This notice is being furnished as provided for by the NEPA Regulations (40 CFR 1501.7 and 1508.22). The intent of the notice is to obtain suggestions and additional information from other agencies and the public on the scope of issues to be considered. Comments and participation in this scoping process are solicited.

Dated: May 13, 2010.
Lynn M. Lewis,
Assistant Regional Director, Ecological Services, Region 3, Fort Snelling, MN.

[FR Doc. 2010-12668 Filed 5-25-10; 8:45 am]

BILLING CODE 4310-55-P